DEPARTMENT OF HEALTH AND HUMAN SERVICES

Administration for Children and Families

Submission for OMB Review; Comment Request

Title: Proposed Healthy Marriage and Responsible Fatherhood Performance Measures and Additional Data Collection (Part of the Fatherhood and Marriage Local Evaluation and Cross-site [FaMLE Cross-site] Project).

OMB No.: New Collection.

Background: For decades various organizations and agencies have been developing and operating programs to strengthen families through healthy marriage and relationship education and responsible fatherhood programming. The Administration for Children and Families (ACF), Office of Family Assistance (OFA), has had administrative responsibility for federal funding of such programs since 2006 through the Healthy Marriage (HM) and Responsible Fatherhood (RF) Grant Programs. The authorizing legislation for the programs may be found in section 403(a)(2) of the Social Security Act [1]. Responsible Fatherhood grantees provide a comprehensive set of services designed to promote responsible fatherhood including activities related to promoting economic stability, fostering responsible parenting, and promoting healthy marriage. Grantees receiving funding for Healthy Marriage offer a broad array of services designed to promote healthy marriage.

The federal government currently collects a set of performance measures from HM and RF grantees. The purpose of this previously approved information collection is to allow OFA and ACF to carry out their responsibilities for program accountability. Descriptions of the information collection may be found at http://www.reginfo.gov/public/do/PRAViewDocument?ref_nbr=201206-0970-005; all measures may be found at http://www.reginfo.gov/public/do/PRAICList?ref_nbr=201206-0970-005.

The Fatherhood and Marriage Local Evaluation (FaMLE) Cross-Site Project: The Offices of Family Assistance (OFA) and Planning, Research and Evaluation (OPRE) in the Administration for Children and Families (ACF), U.S. Department of Health and Human Services (HHS) are proposing new data collection activities to replace existing performance measures as part of the Fatherhood and Marriage Local Evaluation and Cross-site (FaMLE Cross-site) Project. The purpose of the FaMLE Cross-site Project is to support high quality data collection, strengthen local evaluations, and conduct cross-site analysis for the Responsible Fatherhood and Healthy Marriage grantees.

The FaMLE Cross-site project will answer three main research questions: (1) What strategies did grantees use to design well-conceived programs? (2) What strategies did grantees use to successfully implement well-conceived programs? (3) What were the reported outcomes for participants in the programs? In order to answer these questions, we are considering a new set of data collection activities.

Current request: ACF is engaged in a learning agenda to increase our understanding of Healthy Marriage and Responsible Fatherhood programs. This means that we incorporate multiple opportunities and options for learning throughout a program's implementation that provide a range of insights and perspectives. These opportunities help programming constantly develop and advance. For example, data provide the opportunity to feed information back to decision-makers and leaders—both those on the ground and those in management—to inform program design, operation, and oversight.

On November 6, 2014, ACF published a Federal Register Notice (79 FR 65973) requesting public comment on the following:

Performance measures. ACF is proposing a new set of performance measures to be collected by all grantees, beginning with the next round of HMRF grants. These measures will collect standardized information in the following areas:

• Applicant characteristics;

• Program operations (including program characteristics and service delivery); and

• Participant outcomes (will be measured both at initiation of program services (pre-test) and completion (post-test)).

These draft measures were developed per extensive review of the research literature and grantees' past measures.

The next set of grantees will be required to submit data on a set of standardized measures covering these areas on a regular basis (e.g., quarterly). In addition to the performance measures mention above, ACF seeks comment on draft instruments for these data submissions:

• Quarterly Performance Report (QPR), and

• Semi-annual Performance Progress Report (PPR).

A new management information system is being developed which will improve efficiency and the quality of data, and make reporting easier.

Standardized measures and reporting in these areas will enable ACF to track programming outputs and outcomes across programs, and will allow grantees to self-monitor progress.

Additional data collection. As an additional component of the learning agenda, the FaMLE Cross-Site contractor will collect information from a sub-set of grantees on how they designed and implemented their programs (information on outcomes associated with programs will also be assessed). This sub-set of grantees will be required to participate in the additional data collection noted below. The following protocols have been developed:

• Staff interview protocol on program design (will be collected from about half of all grantees);

• Staff interview protocols on program implementation (will be collected from about 10 grantees); and

• Program participant focus group protocol (will be conducted with about 10 grantees).

In response to the previous request, ACF received 57 requests for the proposed measures and 28 emails with comments during the 60-day comment period. Comments were received in eight categories:

• Literacy levels

• Length

• Appropriateness of questions

• Youth Survey

• Case management expectations

• Mode of administration

• Quarterly reporting

• Miscellaneous

A summary of the comments received in these areas and ACF's responses is included in the OMB package and is available upon request (see contact information below). Revised versions of the data collection instruments are also included in the OMB package and available upon request.

Respondents: The respondents to the data collection instruments include Responsible Fatherhood and Healthy Marriage Program grantees (e.g., grantee staff) and program participants. In some cases, grantees will conduct evaluations that include a control or comparison group. In those cases, individuals in the control or comparison group will be asked to respond to the data collection instruments as well.

Updated Annual Burden Estimates: The table below is required by law for Federal Register notices like this one. The federal government's Office of Management and Budget requires federal agencies, including ACF, to estimate how many hours it will take respondents to complete data collection, and to publish these estimates in the Federal Register. The following table provides our estimates.

These estimates are greater than those included in the 60-day Federal Register Notice. We have maintained the same number of data collection instruments, but we have increased the number of respondents as priorities and plans have been further developed and refined.

Annual Burden Estimates
Instrument | Total number of respondents | Annual number of respondents | Number of responses per respondent | Average burden hours per response | Annual burden hours
DCI (Data collection by contractor)
DCI 1: Topic Guide on Program Design | 60 | 20 | 1 | 1 | 20
DCI 2: Topic Guide on Program Implementation | 300 | 100 | 1 | 1 | 100
DCI 3: Focus Group Protocol | 801 | 267 | 1 | 1.50 | 400
DCS (Data collection by grantees)
DCS 1: Applicant Characteristics:
Program applicants | 411,375 | 137,125 | 1 | 0.25 | 34,281
Program staff | 1,080 | 360 | 381 | 0.10 | 13,716
DCS 2: Grantee Program Operations | 260 | 120 | 1 | 0.75 | 90
DCS 3: Service Receipt in MIS | 360 | 120 | 931 | 0.50 | 55,860
DCS 4: Self-administered Questionnaire Pre-Test and Post-Test
Program participants (pre-test) | 335,025 | 111,675 | 1 | 0.42 | 46,904
Program participants (post-test) | 270,390 | 90,130 | 1 | 0.42 | 37,855
Program staff (entry from paper) | 36 | 12 | 1,412 | 0.30 | 5,084
DCS 5: Semi-annual Progress Report | 360 | 120 | 2 | 3 | 720
DCS 6: Quarterly Performance Report | 360 | 120 | 2 | 1 | 240

Estimated Total Annual Burden Hours: 195,270.

Additional Information: Copies of the proposed collection may be obtained by writing to the Administration for Children and Families, Office of Planning, Research and Evaluation, 370 L'Enfant Promenade, SW., Washington, DC 20447, Attn: OPRE Reports Clearance Officer. All requests should be identified by the title of the information collection. Email address: RFHM.FRN.response@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration, for Children and Families.

Karl Koerper,
OPRE Reports Clearance Officer.

[FR Doc. 2015-06534 Filed 3-20-15; 8:45 am]

BILLING CODE 4184-73-P